DEPARTMENT OF EDUCATION

[Docket No.: ED-2023-SCC-0130]

Agency Information Collection Activities; Submission to the Office of Management and Budget for Review and Approval; Comment Request; Stronger Connections Grant Program Annual Performance Report

AGENCY: Office of Elementary and Secondary Education (OESE), Department of Education (ED).

ACTION: Notice.

SUMMARY: In accordance with the Paperwork Reduction Act (PRA) of 1995, the Department is proposing a new information collection request (ICR).

DATES: Interested persons are invited to submit comments on or before February 15, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Sarah Newman, 202-453-6956.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Stronger Connections Grant Program Annual Performance Report.

OMB Control Number: 1810-NEW.

Type of Review: A new ICR.

Respondents/Affected Public: Individuals and Households.

Total Estimated Number of Annual Responses: 10,053.

Total Estimated Number of Annual Burden Hours: 40,636.

Abstract: The Bipartisan Safer Communities Act (BSCA) provides $1 billion in funding to State educational agencies (SEAs) to be distributed under Title IV, Part A of the Elementary and Secondary Education Act of 1965 (ESEA). The BSCA specifies that SEAs must make competitive subgrants to high-need local educational agencies (LEAs), as determined by the SEA, for activities to support safe and healthy students under section 4108 of the ESEA. The Department of Education has designated BSCA section 4108 funds as the Stronger Connections grant program.

This is a new information collection request for the Stronger Connections grant program annual performance reporting. Under the Education Department's General Administrative Regulations (EDGAR, Section 75.720), grantees shall submit annual performance reports. In addition, in order to receive a Stronger Connections grant award, SEAs were required to submit an assurance that the SEA will submit such other information as the Secretary may later require, such as (1) the identification of the LEAs awarded Stronger Connections grant funds, (2) how the SEA and its LEAs are using Stronger Connections grant funds, and (3) Whether the SEA will evaluate the effectiveness of the SCG program, including the effectiveness of LEA use of SCG funds and, if so, how it will do so.

As part of the public comment period review, ED requests that SEAs and its other stakeholders respond to the directed questions found in Attachment A.

Dated: January 10, 2024.
Kun Mullan,
PRA Coordinator, Strategic Collections and Clearance, Governance and Strategy Division, Office of Chief Data Officer, Office of Planning, Evaluation and Policy Development.

[FR Doc. 2024-00663 Filed 1-12-24; 8:45 am]

BILLING CODE 4000-01-P